DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Nurse Faculty Loan Program (NFLP)—Program Specific Data Form OMB No. 0915-xxxx—NEW.

Abstract: This clearance request is for approval of the new Nurse Faculty Loan Program (NFLP) Program Specific Data Form. The form was previously approved under OMB Approval No: 0915-0061, Expiration date: June 30, 2013. The data form was discontinued under the old approval number.

Need and Proposed Use of the Information: The NFLP Program Specific Data Form is included as an electronic attachment with the required application materials. The data provided in the form are essential for the formula-based criteria used to determine the award amount to the applicant schools. Approval of the new NFLP Program Specific Data Form will facilitate our current effort to address the specific program goal of capturing data to efficiently generate the formula-based award. The electronic data collection capability will streamline the application submission process, enable an efficient award determination process, and serve as a data repository to facilitate reporting on the use of funds and analysis of program outcomes.

Likely Respondents: Likely Respondents are NFLP applicants.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
NFLP-Program Specific Data From | 150 | 1 | 150 | 8 | 1,200
Total Burden | 150 | 1 | 150 | 8 | 1,200

Dated: January 31, 2014.
Bahar Niakan,
Director, Division of Policy and Information Coordination.

[FR Doc. 2014-02912 Filed 2-10-14; 8:45 am]

BILLING CODE 4165-15-P